DEPARTMENT OF LABOR

Office of the Secretary

Draft Guidelines for Ensuring and Maximizing the Quality, Objectivity, Utility, and Integrity of Information Disseminated by the Department of Labor: Request for Comment

AGENCY: Office of the Secretary, Labor.

ACTION: Notice.

SUMMARY: On May 1, 2002, the Department of Labor (DOL) published draft Guidelines for Ensuring and Maximizing the Quality, Objectivity, Utility, and Integrity of Information Disseminated by DOL in the Federal Register (67 FR 21776-21777). These guidelines are available for public comment on the DOL Web site: http://www2.dol.gov/cio/programs/infoguidelines/guidelines.htm

This notice announces an extension of the May 31, 2002, comment deadline to June 30, 2002.

DATES: Comments must be received on or before June 30, 2002.

ADDRESSES: Comments on the draft guidelines must be submitted in writing by postal mail, fax, or e-mail to the Assistant Secretary for Administration and Management, Department of Labor, Room N-1301, 200 Constitution Avenue, NW., Washington, DC 20210, Attention: Mrs. Theresa O'Malley, fax number (202) 693-4228, or e-mail mailto:Omalley_Theresa@dol.gov. Respondents are encouraged to submit comments electronically.

FOR FURTHER INFORMATION CONTACT: Mrs. Theresa M. O'Malley, Executive Officer, Information Technology Center, telephone (202) 693-4216 (this is not a toll-free number), fax number (202) 693-4228, or e-mail mailto:Omalley_Theresa@dol.gov.

SUPPLEMENTARY INFORMATION: On February 22, 2002, the Office of Management and Budget (OMB) published a Federal Register Notice (67 FR 8452-8460) Guidelines for Ensuring and Maximizing the Quality, Objectivity, Utility, and Integrity of Information Disseminated by Federal Agencies; Republication. The guidelines state that each agency must prepare a draft report, no later than May 1, 2002 (as amended, Federal Register Notice [67 FR 9797] March 4, 2002), providing the agency's draft information quality guidelines and explaining how such guidelines will ensure and maximize the quality, objectivity, utility, and integrity of information including statistical information disseminated by the agency. This report must also detail the administrative mechanisms developed by that agency to allow affected persons to seek and obtain appropriate correction of information maintained and disseminated by the agency that does not comply with the OMB or the agency guidelines. Each agency must publish a notice of availability of this draft report in the Federal Register, and post this report on the agency's website, to provide an opportunity for public comment. Following this public comment process, agencies are required to submit a revised draft report to the Office of Management and Budget on or before August 1, 2002.

The DOL has posted the draft Guidelines for Ensuring and Maximizing the Quality, Objectivity, Utility, and Integrity of Information Disseminated by Department of Labor on the DOL website as referenced above in the Summary section of this notice.

Signed at Washington, DC, this 31st day of May 2002.
Patrick Pizzella,
Assistant Secretary for Administration and Management, Chief Information Officer.

[FR Doc. 02-14194 Filed 6-5-02; 8:45 am]

BILLING CODE 4510-23-M